DEPARTMENT OF VETERANS AFFAIRS

Veterans' Advisory Committee on Environmental Hazards; Notice of Meeting Cancellation

The Department of Veterans Affairs (VA) gives notice under Public Law 92-463 (Federal Advisory Committee Act) that a meeting of the Veterans' Advisory Committee on Environmental Hazards scheduled for March 23-24, 2009, in room 630 at the Department of Veterans Affairs, 810 Vermont Avenue, NW., Washington, DC has been cancelled.

Dated: March 13, 2009.
By Direction of the Secretary.
E. Philip Riggin,
Committee Management Officer.

[FR Doc. E9-6108 Filed 3-19-09; 8:45 am]

BILLING CODE 8320-01-P